DEPARTMENT OF TRANSPORTATION

Federal Aviation Administration

14 CFR Part 71

[Docket No. FAA-2024-1707; Airspace Docket No. 24-ASW-4]

RIN 2120-AA66

Amendment of VOR Federal Airways V-68, V-76, V-212, V-222, and V-558, and United States Area Navigation Route T-220 in the Vicinity of Industry, TX

AGENCY: Federal Aviation Administration (FAA), DOT.

ACTION: Final rule.

SUMMARY: This action amends Very High Frequency Omnidirectional Range (VOR) Federal Airways V-68, V-212, and V-222, and United States Area Navigation (RNAV) Route T-220; and revokes VOR Federal Airway V-558. The proposed V-76 airway amendment is removed from this action due to the amendment already being accomplished by a separate airspace docket action. The FAA is taking this action due to the planned decommissioning of the VOR portion of the Industry, TX (IDU), VOR/Tactical Air Navigation (VORTAC) navigational aid (NAVAID). The Industry VOR is being decommissioned in support of the FAA's VOR Minimum Operational Network (MON) Program.

DATES: Effective date 0901 UTC, February 20, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Colby Abbott, Rules and Regulations Group, Office of Policy, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System as necessary to preserve the safe and efficient flow of air traffic.

History

The FAA published a NPRM for Docket No. FAA-2024-1707 in the Federal Register (89 FR 50537; June 14, 2024), proposing to amend VOR Federal Airways V-68, V-76, V-212, V-222, and V-558, and United States RNAV Route T-220 due to the planned decommissioning of the VOR portion of the Industry, TX, VORTAC NAVAID. Interested parties were invited to participate in this rulemaking effort by submitting written comments on the proposal. No comments were received.

Differences From the NPRM

Subsequent the NPRM, the FAA published a final rule for Docket No. FAA-2024-0485 in the Federal Register (89 FR 67853, August 22, 2024; corrected September 30, 2024 (89 FR 79429)), amending VOR Federal Airway V-76 by removing the airway segment between the San Angelo, TX, VORTAC and the Industry, TX, VORTAC. As amended, V-76 was changed to extend between the Lubbock, TX, VORTAC and the San Angelo, TX, VORTAC, effective October 31, 2024. As a result of that final rule, the proposed V-76 amendment in this airspace docket is removed.

Additionally, the final rule for Docket No. FAA-2024-0485 (89 FR 67853, August 22, 2024; corrected September 30, 2024 (89 FR 79429)) amended V-558 by removing the airway segment between the Llano, TX, VORTAC and the Centex, TX, VORTAC. As amended, V-558 was changed to extend between the Centex, TX, VORTAC and the Industry, TX, VORTAC, effective October 31, 2024. That amendment is included in this action.

Incorporation by Reference

VOR Federal Airways are published in paragraph 6010(a) and United States Area Navigation Routes (T-routes) are published in paragraph 6011 of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This action amends 14 CFR part 71 by amending VOR Federal Airways V-68, V-212, and V-222, and RNAV Route T-220; and revoking VOR Federal Airway V-558. The FAA is taking this action due to the planned decommissioning of the VOR portion of the Industry, TX, VORTAC NAVAID. The Air Traffic Service route actions are described below.

V-68: Prior to this final rule, V-68 extended between the Montrose, CO, VOR/Distance Measuring Equipment (VOR/DME) and the Industry, TX, VORTAC. The airway segment between the San Antonio, TX, VORTAC and the Industry VORTAC is removed. Additionally, the designated Federal airway floor information in the airway description between the Corona, NM, VORTAC and the Chisum, NM, VORTAC is removed also. As amended, the airway is changed to now extend between the Montrose VOR/DME and the San Antonio VORTAC.

V-212: Prior to this final rule, V-212 extended between the Industry, TX, VORTAC and the Mc Comb, MS, VORTAC. The airway segment between the Industry VORTAC and the Navasota, TX, VOR/DME is removed. As amended, the airway is changed to now extend between the Navasota VOR/DME and the Mc Comb VORTAC.

V-222: Prior to this final rule, V-222 extended between the El Paso, TX, VORTAC and the Humble, TX, VORTAC; and between the Lake Charles, LA, VORTAC and the intersection of the LaGrange, GA, VORTAC 048° and Rome, GA, VORTAC 166° radials (TIROE Fix). The airway segment between the Stonewall, TX, VORTAC and the Humble, TX, VORTAC is removed. Additionally, the designated Federal airway floor information in the airway description between the Fort Stockton, TX, VORTAC and the Junction, TX, VORTAC is removed. As amended, the airway is changed to now extend between the El Paso VORTAC and the Stonewall VORTAC, and between the Lake Charles VORTAC and the TIROE Fix.

V-558: Prior to this final rule, V-558 extended between the Centex, TX, VORTAC and the Industry, TX, VORTAC. The airway segment between the Centex VORTAC and the Industry VORTAC is removed; therefore, the airway is removed in its entirety.

T-220: Prior to this final rule, T-220 extended between the Industry, TX, VORTAC and the Sabine Pass, TX, VOR/DME. The Industry VORTAC route point is replaced with the MNURE, TX, WP located approximately 2 nautical miles north of the Industry VORTAC and the route is extended westward from the MNURE WP to the MARCS, TX, Fix. As amended, the route is changed to now extend between the MARCS Fix and the Sabine Pass VORTAC. The full T-220 route description is listed in the regulatory text of this final rule.

The NAVAID radials listed in the VOR Federal airway descriptions in the regulatory text of this final rule are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action amending VOR Federal Airways V-68, V-212, and V-222, and United States RNAV Route T-220; and revoking VOR Federal Airway V-558, due to the planned decommissioning of the VOR portion of the Industry, TX, VORTAC NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5i, which categorically excludes from further environmental impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6010(a) Domestic VOR Federal Airways.

* * * * *

V-68 [Amended]

From Montrose, CO; Cones, CO; Dove Creek, CO; Cortez, CO; Rattlesnake, NM; INT Rattlesnake 128° and Albuquerque, NM, 345° radials; Albuquerque; INT Albuquerque 120° and Corona, NM, 311° radials; Corona; Chisum, NM; Hobbs, NM; Midland, TX; San Angelo, TX; Junction, TX; Center Point, TX; to San Antonio, TX.

* * * * *

V-212 [Amended]

From Navasota, TX; INT Navasota 019° and Lufkin, TX, 250° radials; Lufkin; Alexandria, LA; to Mc Comb, MS.

* * * * *

V-222 [Amended]

From El Paso, TX; Salt Flat, TX; Fort Stockton, TX; Junction, TX; to Stonewall, TX. From Lake Charles, LA; Mc Comb, MS; Eaton, MS; Monroeville, AL; Montgomery, AL; LaGrange, GA; to INT LaGrange 048° and Rome, GA, 166° radials.

* * * * *

V-558 [Removed]

* * * * *

Paragraph 6011 United States Area Navigation Routes.

* * * * *

T-220 MARCS, TX to Sabine Pass, TX (SBI) [Amended]
MARCS, TX | FIX | (Lat. 29°53′52.04″ N, long. 097°51′40.70″ W)
CRAYS, TX | FIX | (Lat. 29°55′06.43″ N, long. 097°25′59.46″ W)
MNURE, TX | WP | (Lat. 29°59′34.88″ N, long. 096°33′57.84″ W)
SEALY, TX | FIX | (Lat. 29°51′15.54″ N, long. 095°56′36.33″ W)
MOLLR, TX | WP | (Lat. 29°39′20.23″ N, long. 095°16′35.83″ W)
Sabine Pass, TX (SBI) | VOR/DME | (Lat. 29°41′12.19″ N, long. 094°02′16.72″ W)

* * * * *

Issued in Washington, DC, on December 3, 2024.
Richard Lee Parks,
Manager (A), Rules and Regulations Group.

[FR Doc. 2024-28750 Filed 12-6-24; 8:45 am]

BILLING CODE 4910-13-P